DEPARTMENT OF TRANSPORTATION

Federal Aviation Administration

14 CFR Part 39

[Docket No. FAA-2005-22973; Directorate Identifier 2004-NM-67-AD; Amendment 39-14577; AD 2006-09-07]

RIN 2120-AA64

Airworthiness Directives; Airbus Model A330-200, A330-300, A340-200, and A340-300 Series Airplanes; and A340-541 and A340-642 Airplanes

AGENCY: Federal Aviation Administration (FAA), Department of Transportation (DOT).

ACTION: Final rule.

SUMMARY: The FAA is adopting a new airworthiness directive (AD) for all Airbus Model A330-200, A330-300, A340-200, and A340-300 series airplanes; and A340-541 and A340-642 airplanes. This AD requires operators to revise the Airworthiness Limitations section of the Instructions for Continued Airworthiness to incorporate new information. This information includes, for all affected airplanes, decreased life limit values for certain components; and for Model A330-200 and -300 series airplanes, new inspections, compliance times, and new repetitive intervals to detect fatigue cracking, accidental damage, or corrosion in certain structures. This AD results from a revision to subsection 9-1 of the Airbus A330 and A340 Maintenance Planning Documents (MPD) for Life limits/Monitored parts, and subsection 9-2 of the Airbus A330 MPD for Airworthiness Limitations Items. We are issuing this AD to prevent fatigue cracking, damage, or corrosion, which could result in reduced structural integrity of these airplanes.

DATES: This AD becomes effective June 7, 2006.

The Director of the Federal Register approved the incorporation by reference of certain publications listed in the AD as of June 7, 2006.

ADDRESSES: You may examine the AD docket on the Internet at http://dms.dot.gov or in person at the Docket Management Facility, U.S. Department of Transportation, 400 Seventh Street, SW., Nassif Building, room PL-401, Washington, DC.

Contact Airbus, 1 Rond Point Maurice Bellonte, 31707 Blagnac Cedex, France, for service information identified in this AD.

FOR FURTHER INFORMATION CONTACT: Tim Backman, Aerospace Engineer International Branch, ANM-116, FAA, International Branch, Transport Airplane Directorate, 1601 Lind Avenue, SW., Renton, Washington 98055-4056; telephone (425) 227-2797; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to all Airbus Model A330-200, A330-300, A340-200, and A340-300 series airplanes; and A340-541 and A340-642 airplanes. That NPRM was published in the Federal Register on November 15, 2005 (70 FR 69288). That NPRM proposed to require operators to revise the Airworthiness Limitations section of the Instructions for Continued Airworthiness to incorporate new information.

Comments

We provided the public the opportunity to participate in the development of this AD. We have considered the comment received.

Request To Allow Single Inspection for Compliance With Tasks of Multiple Origins

Air Transportation Association (ATA), on behalf of Northwest Airlines, supports the intent of the NPRM, but has questions about implementing the AD. ATA's concern centers on the Airworthiness Limitations items (ALI) that require general visual inspections (GVI). ATA supports listing these inspections separately in an appropriate document so that they remain visible and will not be “lost” in the commenter's zonal inspection program. However, ATA would like the FAA to acknowledge that GVI tasks with multiple origins (ALI and maintenance review board (MRB)) that have identical accessibility only require a single GVI. ATA states that this single GVI constitutes full compliance with all applicable originating documents; separate GVIs are not required in order to show compliance with each originating document. ATA believes that accomplishing these GVIs in conjunction with each other will enhance safety, provided each GVI requirement is tracked separately. In other words, the ATA explains, an ALI requirement should be accomplished in conjunction with the zonal inspection program when appropriate so that the effectiveness of each inspection requirement will be maintained.

We acknowledge ATA's request. The zonal inspection program is a program that is unique to the commenter's airline. A single GVI can satisfy both the MRB zonal inspection and the ALI inspection as long as the inspection is done in the same area. However, the commenter must work with its Principal Maintenance Inspector for approval of that method of compliance. We have not changed the AD in this regard.

Explanation of Change in Applicability

We have added Airbus Model A330-302 and A330-303 airplanes to the applicability of the AD to more closely match the effectivity of the parallel French airworthiness directives. Neither of these models are on the U.S. Register. However, we have added them to the applicability to ensure that the unsafe condition is addressed if any Airbus Model A330-302 and A330-303 airplane is imported and placed on the U.S. Register in the future.

Clarification of Unsafe Condition

We have changed the AD to further clarify the end-level effect unsafe condition could have on the affected airplanes.

Conclusion

We have carefully reviewed the available data, including the comment received, and determined that air safety and the public interest require adopting the AD with the changes described previously. We have determined that these changes will neither increase the economic burden on any operator nor increase the scope of the AD.

Costs of Compliance

The following table provides the estimated costs for U.S. operators to comply with this AD.

Estimated Costs
Action | Work hour | Average labor rate per hour | Parts | Cost per airplane | Number of U.S.-registered airplanes | Fleet cost
Revise the ALS | 1 | $65 | None | $65 | 20 | $1,300

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-09-07 Airbus: Amendment 39-14577. Docket No. FAA-2005-22973; Directorate Identifier 2004-NM-67-AD.

Effective Date

(a) This AD becomes effective June 7, 2006.

Affected ADs

(b) None.

Applicability

(c) This AD applies to all Airbus Model A330-201, -202, -203, -223, and -243 airplanes; A330-301, -302, -303, -321, -322, -323, -341, -342, and -343 airplanes; A340-211, -212, and -213 airplanes; A340-311, -312, and -313 airplanes; A340-541 airplanes; and A340-642 airplanes; certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (h) of this AD. The request should include a description of changes to the required inspections that will ensure the continued damage tolerance of the affected structure. The FAA has provided guidance for this determination in Advisory Circular 25-1529.

Unsafe Condition

(d) This AD results from a revision to subsection 9-1 of the Airbus A330 and A340 Maintenance Planning Documents (MPD) for Life limits/Monitored parts, and subsection 9-2 of the Airbus A330 MPD for Airworthiness Limitations Items. We are issuing this AD to prevent fatigue cracking, damage, or corrosion, which could result in reduced structural integrity of these airplanes.

Compliance

(e) You are responsible for having the actions required by this AD performed within the compliance times specified, unless the actions have already been done.

Airworthiness Limitations Revision

(f) Within 3 months after the effective date of this AD, revise the Airworthiness Limitations section (ALS) of the Instructions for Continued Airworthiness by incorporating into the ALS the documents in paragraph (f)(1) and (f)(2) of this AD, as applicable.

(1) Airbus Document AI/SE-M4/95A.0089/97, “A330 Airworthiness Limitations Items,” Issue 12, dated November 1, 2003, as specified in Section 9-2 of the Airbus A330 MPD.

(2) Section 9-1, “Life limits/Monitored parts,” Revision 05, dated April 7, 2005, of the Airbus A330 and A340 MPDs.

(g) Except as provided by paragraph (h) of this AD: After the actions in paragraph (f) of this AD have been accomplished, no alternative inspections or inspection intervals may be approved for the structural elements specified in the documents listed in paragraph (f) of this AD.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) French airworthiness directives F-2004-024, dated February 18, 2004; F-2005-069, dated April 27, 2005; and F-2005-070, dated April 27, 2005; also address the subject of this AD.

Material Incorporated by Reference

(j) You must use Airbus Document AI/SE-M4/95A.0089/97, “A330 Airworthiness Limitations Items,” Issue 12, dated November 1, 2003; Section 9-1, “Life limits/Monitored parts,” Revision 05, dated April 7, 2005, of the Airbus A330 Maintenance Planning Document; and Section 9-1, “Life limits/Monitored parts,” Revision 05, dated April 7, 2005, of the Airbus A340 Maintenance Planning Document; as applicable, to perform the actions that are required by this AD, unless the AD specifies otherwise. (The document and issue number of Airbus Document AI/SE-M4/95A.0089/97 are contained only on the Title, Record of Revision, Summary of Changes, List of Effective Pages, Table of Contents, and Section 1 pages; no other page of this document contains this information. The revision number of Section 9-1 of the Airbus A330 Maintenance Planning Document and Section 9-1 of the Airbus A340 Maintenance Planning Document is contained only in the Record of Revisions page; no other page of these documents contains this information. The issue date on the title page of section 9-1 of the Airbus A340 Maintenance Planning Document should be “April 7, 2005.”) The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street, SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on April 20, 2006.
Kalene C. Yanamura,
Acting Manager, Transport Airplane Directorate, Aircraft Certification Service.

[FR Doc. 06-4051 Filed 5-2-06; 8:45 am]

BILLING CODE 4910-13-P